DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2010 National Mental Health Services Survey (N-MHSS) (OMB No. 0930-0119)—Revision

The Substance Abuse and Mental Health Services Administration's (SAMHSA) Center for Mental Health Services (CMHS) will conduct the 2010 N-MHSS. This national survey will update the previous biennial mental health facility survey conducted in 2008—the National Survey of Mental Health Treatment Facilities (NSMHTF) under OMB No. 0930-0119. Similar in design to the 2008 NSMHTF, the 2010 N-MHSS will survey all mental health service locations, instead of surveying each mental health organization as a whole. These separate mental health service locations (facilities) are in contrast to mental health organizations which may include multiple facilities (service locations). This survey will be (a) A 100-percent enumeration of all known facilities nationwide that specialize in mental health treatment services, (b) more consumer-oriented in describing services available at each facility location, and (c) patterned after SAMHSA's Office of Applied Studies National Survey of Substance Abuse Treatment Services (OMB No. 0930-0106).

The 2010 N-MHSS will utilize one questionnaire for all mental health facility types including hospitals, residential treatment centers, outpatient clinics, and multi-setting facilities. The information collected will include: intake telephone numbers for services, types of services offered, sources of payment for services, facility caseload characteristics, and facility bed counts, if applicable. This survey will use a multi-mode approach to data collection—mail and Web with telephone follow-up.

The resulting database will be used to provide both State and national estimates of facility types and their patient caseloads. Information from the 2010 survey will also be used to update SAMHSA's online Mental Health Facility Locator for use by consumers. In addition, data derived from the survey will be published by CMHS in SAMHSA publications such as Mental Health, United States and in professional journals such as Psychiatric Services and the American Journal of Psychiatry. The publication, Mental Health, United States, is used by the general public, State governments, the U.S. Congress, university researchers, mental health service providers, and mental health care professionals. The following Table summarizes the estimated response burden for the survey.

Estimated Total Response Burden for the 2010 N-MHSS
Facility type | Number of respondents | Responses per respondent | Average hours per response | Total hour burden
Public Psychiatric Hospitals | 304 | 1 | 1 | 304
Private Psychiatric Hospitals | 534 | 1 | 1 | 534
General Hospitals | 1,712 | 1 | 1 | 1,712
Residential Treatment Centers for Children | 1,186 | 1 | 1 | 1,186
Residential Treatment Centers for Adults | 829 | 1 | 1 | 829
Outpatient Clinics | 6,266 | 1 | 1 | 6,266
Multi-Setting Facilities | 2,115 | 1 | 1 | 2,115
Total Facilities | 12,946 | 1 | 1 | 12,946

Send comments to Summer King, SAMHSA Reports Clearance Officer, Room 7-1044, One Choke Cherry Road, Rockville, MD 20857 and e-mail her a copy at summer.king@samhsa.hhs.gov. Written comments should be received within 60 days of this notice.

Dated: June 29, 2009.
Elaine Parry,
Director, Office of Program Services.

[FR Doc. E9-15914 Filed 7-2-09; 8:45 am]

BILLING CODE 4162-20-P